DEPARTMENT OF THE INTERIOR

Bureau of Land Management

[LLCAC01000 L16600000.XZ0000 15XL1109AF LXSIOVHD0000]

Notice of Public Meeting of the Central California Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central California Resource Advisory Council (RAC) will meet as indicated below.

DATES: A business meeting will be held Thursday, Oct. 29, 2015, at the Mendocino Hotel, 45080 Main St., Mendocino, CA, from 8 a.m. to 2 p.m. Time for public comment is reserved from 9 a.m. to 10 a.m. Following the business meeting, the RAC will tour the Campbell-Hawthorne Timber Company property to begin preliminary discussion of possible transfer of portions of the property to BLM for off-highway vehicle use.

On Friday, Oct. 30, the RAC is scheduled to leave the Mendocino Hotel at 8 a.m. to tour the Point Arena-Stornetta Unit of the California Coastal National Monument. Members of the public are welcome to attend the meeting and tours.

FOR FURTHER INFORMATION CONTACT: BLM Central California District Manager Este Stifel, (916) 978-4626; or BLM Public Affairs Officer David Christy, (916) 941-3146.

SUPPLEMENTARY INFORMATION: The 12-member council advises the Secretary of the Interior, through the BLM, on a variety of planning and management issues associated with public land management in the Central California District, which includes the Bishop, Bakersfield, Central Coast, Ukiah and Mother Lode Field Offices. At this meeting, agenda topics will include a field manager updates on resource management issues including the Berryessa-Snow Mountain National Monument and wildfires. Additional ongoing business will be discussed by the council. All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: September 23, 2015.
Ruben Leal,
Associate District Manager.

[FR Doc. 2015-25523 Filed 10-6-15; 8:45 am]

BILLING CODE 4310-40-P